DEPARTMENT OF STATE

[Public Notice 5864]

Notice of Issuance of Presidential Permit To Construct, Operate and Maintain a New Commercial Land Border Crossing Near San Luis, AZ

AGENCY: Department of State.

ACTION: Public notice.

The Department of State provides notice that effective June 30, 2007, the Department has issued a Presidential permit authorizing the General Services Administration to construct, operate and maintain a new commercial land border crossing near San Luis, Arizona, known as the “San Luis II” crossing. This notice is provided by the Coordinator, U.S.-Mexico Border Affairs, WHA/MEX, Room 4258, Department of State, 2201 C St., NW., Washington, DC 20520. The following is the text of the issued permit:

Presidential Permit 07-1 Authorizing the General Services Administration to Construct, Operate and Maintain a Commercial Border Crossing called “SAN LUIS II” Near San Luis, Arizona, at the International Boundary Between the United States and Mexico

By virtue of the authority vested in me as Assistant Secretary of State for Economic, Energy and Business Affairs, pursuant to Department of State Delegation number 299 from the Secretary of State dated April 2, 2007, to exercise, to the extent authorized by law, all authorities vested in the Under Secretary of State for Economic, Business and Agricultural Affairs, including those authorities under Executive Order 11423, 33 FR 11741 (1968), as amended by Executive Order 12847 of May 17, 1993, 58 FR 29511 (1993), Executive Order 13284 of January 23, 2003, 68 FR 4075 (2003), and Executive Order 13337 of April 30, 2004, 69 FR 25299 (2004); having considered the environmental effects of the proposed action in accordance with the National Environmental Policy Act of 1969 (83 Stat. 852; 42 U.S.C. 4321 et seq.) and other statutes relating to environmental concerns; having considered the proposed action in accordance with the National Historic Preservation Act (80 Stat. 917, 16 U.S.C. 470f et seq.); and having requested and received the views of various of the federal departments and other interested persons; I hereby grant permission, subject to the conditions herein set forth, to the United States General Services Administration (GSA) (hereinafter referred to as the “permittee”), to construct, operate and maintain a new commercial land border crossing (hereinafter referred to as “San Luis II”), approximately five miles east of the existing San Luis Port of Entry near San Luis, Arizona.

* * * * *

The term “facilities” as used in this permit means the facilities to be constructed at the San Luis II Port of Entry in San Luis, Arizona, consisting of the following improvements and structures:

• Inspection and X-Ray Facilities

• Containment Areas and Docks

• Commercial Inspection Building with Import and Export Docks

• Export Inspection

• Main Administrative Building

• Entry and Exit Control Booths

• Roadways and related Infrastructure, Pathways, Parking Lots, and related Lots

• Landscaping

• Ancillary Support Facilities

• Commercial Cargo lanes

• Related Improvements and Infrastructure

These facilities are the subject of the Finding of No Significant Impact, approved by the GSA Regional Administrator, Region 9 on April 15, 2007, FR Vol. 72, No. 32 (Feb. 16, 2007) (hereinafter referred to as the “FONSI”).

This permit is subject to the following conditions:

Article 1. The facilities herein described, and all aspects of their operation, shall be subject to all the conditions, provisions and requirements of this permit and any amendment thereof. This permit may be terminated upon a determination of the Executive Branch that the San Luis II border crossing shall be closed. This permit may be amended by the Secretary of State or the Secretary's delegate in consultation with the permittee and, as appropriate, other Executive Branch agencies; the permittee's obligation to implement such an amendment is subject to the availability of funds. The permittee shall make no substantial change in the location of the facilities or in the operation authorized by this permit until such changes have been approved by the Secretary of State or the Secretary's delegate.

Article 2. The permittee shall comply with all applicable federal laws and regulations regarding the construction, operation and maintenance of the facilities. Further, the permittee shall comply with nationally recognized codes to the extent required under 40 U.S.C. 3312(b). The permittee shall cooperate with state and local officials to the extent required under 40 U.S.C. 3312(d).

Article 3. In the event that the San Luis II Port of Entry is permanently closed and is no longer used as an international crossing, this permit shall terminate and the permittee may manage, utilize, or dispose of the facilities in accordance with its statutory authorities.

Article 4. The permittee is a federal agency that is responsible for managing and operating the San Luis II Port of Entry, as authorized by applicable federal laws and regulations. This permit shall continue in full force and effect for only so long as the permittee shall continue the operations hereby authorized.

Article 5. This Article applies to transfer of the facilities or any part thereof as an operating land border crossing. The permittee shall immediately notify the United States Department of State of any decision to transfer custody and control of the facilities or any part thereof to any other agency or department of the United States Government. Said notice shall identify the transferee agency or department and seek the approval of the United States Department of State for the transfer of the permit. In the event of approval by the Department of State of such transfer of custody and control to another agency or department of the United States Government, the permit shall remain in force and effect, and the facilities shall be subject to all the conditions, permissions and requirements of this permit and any amendments thereof. The permittee may transfer ownership or control of the facilities to a non-federal entity or individual only upon the prior express approval of such transfer by the United States Department of State, which approval may include such conditions, permissions and requirements that the Department of State, in its discretion, determines are appropriate and necessary for inclusion in the permit, to be effective on the date of transfer.

Article 6. (1) The permittee or its agent shall acquire such right-of-way grants or easements and permits as may become necessary and appropriate.

(2) The permittee shall maintain the facilities and every part thereof.

Article 7. (1) The permittee shall take or cause to be taken all appropriate measures to prevent or mitigate adverse environmental impacts or disruption of significant archeological resources in connection with the construction, operation and maintenance of the facilities, including those mitigation measures adopted by the permittee in the FONSI.

(2) Before issuing the notice to proceed for construction, the permittee shall obtain the concurrence of the International Boundary and Water Commission.

Article 8. The permittee shall comply with all agreed actions and obligations set forth in the FONSI. The permittee's acceptance of transfer of the land upon which the San Luis II Port of Entry is to be built is conditioned upon the Greater Yuma Port Authority's commitments to implement the mitigation measures described in the FONSI.

Article 9. The permittee shall file any applicable statements and reports that might be required by applicable federal law in connection with this project.

Article 10. The permittee shall not issue a notice to proceed for construction work until the Department of State has provided notification to the permittee that the Department has completed its exchange of diplomatic notes with the Government of Mexico regarding authorization of construction. The permittee shall provide written notice to the Department of State at such time as the construction authorized by this permit is begun, and again at such time as construction is completed, interrupted for more than ninety days or discontinued.

Article 11. This permit is not intended to, and does not, create any right, benefit, or trust responsibility, substantive or procedural, enforceable at law or in equity, by any party against the United States, its departments, agencies, instrumentalities or entities, its officers or employees, in their individual or official capacities, or any other person.

In Witness Whereof, I, Daniel S. Sullivan, Assistant Secretary of State for Economic, Energy and Business Affairs of the United States, have hereunto set my hand this 13th day of June, 2007, in the City of Washington, District of Columbia.

Dated: June 29, 2007.
Daniel S. Sullivan,
Assistant Secretary of State, United States Department of State.
Richard M. Sanders,
Acting Director, Office of Mexican Affairs, Department of State.

[FR Doc. E7-13126 Filed 7-5-07; 8:45 am]

BILLING CODE 4710-29-P